DEPARTMENT OF ENERGY

Federal Energy Regulatory Commission

Notice of Effectiveness of Exempt Wholesale Generator Status

| Docket Nos.
Red Tailed Hawk Solar LLC | EG23-174-000
AEUG Union Solar LLC | EG23-175-000
Antelope Valley BESS, LLC | EG23-176-000
Rayburn Energy Station LLC | EG23-177-000
Trinity River Solar 1, LLC | EG23-178-000
Champion Solar 1, LLC | EG23-179-000
Crossvine Solar 1, LLC | EG23-180-000
Granite Hill Solar, LLC | EG23-181-000
Jones City Solar, LLC | EG23-182-000
Mayapple Solar, LLC | EG23-183-000
Mountain Daisy Solar, LLC | EG23-184-000
Mowata Solar, LLC | EG23-185-000
Earthrise Gibson City Interconnection, LLC | EG23-186-000
Earthrise Lincoln Interconnection, LLC | EG23-187-000
Earthrise Shelby County Interconnection, LLC | EG23-188-000
Earthrise Tilton Interconnection, LLC | EG23-189-000
Earthrise Crete Interconnection, LLC | EG23-190-000
ETEM Remediation Two LLC | EG23-191-000
Glover Creek Solar, LLC | EG23-192-000
PGR 2022 Lessee 9, LLC | EG23-193-000
Cascade Energy Storage, LLC | EG23-194-000
DeCordova BESS LLC | EG23-195-000
Crane 2 BESS, LLC | EG23-196-000
SR DeSoto II, LLC | EG23-197-000
SR DeSoto III, LLC | EG23-198-000
SR DeSoto III Lessee, LLC | EG23-199-000
SR Canadaville, LLC | EG23-200-000
SR Canadaville Lessee, LLC | EG23-201-000
SR Lambert I, LLC | EG23-202-000
SR Lambert II, LLC | EG23-203-000
TRS Fuel Cell, LLC | EG23-204-000
Algodon Solar Energy Holdings LLC | EG23-205-000
Algodon Solar Energy LLC | EG23-206-000
Chisholm Trail Solar Energy Holdings LLC | EG23-207-000
Flat Ridge 4 Wind, LLC | EG23-208-000
Chisholm Trail Solar Energy LLC | EG23-209-000
Flat Ridge 4 Wind Holdings LLC | EG23-210-000
Flat Ridge 5 Wind Energy Holdings LLC | EG23-211-000
Flat Ridge 5 Wind Energy LLC | EG23-212-000
Lazbuddie Wind Energy LLC | EG23-213-000
Pixley Solar Energy Holdings LLC | EG23-214-000
Pixley Solar Energy LLC | EG23-215-000
Lazbuddie Wind Energy Holdings LLC | EG23-216-000
Last Mile Transmission LLC | EG23-217-000
Vikings Energy Farm LLC | EG23-218-000
Oak Ridge Solar, LLC | EG23-219-000]

Take notice that during the month of August 2023, the status of the above-captioned entities as Exempt Wholesale Generators became effective by operation of the Commission's regulations. 18 CFR 366.7(a) (2022).

Dated: September 6, 2023.
Debbie-Anne A. Reese,
Deputy Secretary.

[FR Doc. 2023-19635 Filed 9-11-23; 8:45 am]

BILLING CODE 6717-01-P